DEPARTMENT OF ENERGY

[OE Docket No. EA-357]

Application to Export Electric Energy; Hunt Electric Power Marketing, L.L.C.

AGENCY: Office of Electricity Delivery and Energy Reliability, DOE.

ACTION: Notice of application.

SUMMARY: Hunt Electric Power Marketing, L.L.C. (HEPM) has applied for authority to transmit electric energy from the United States to Mexico pursuant to section 202(e) of the Federal Power Act.

DATES: Comments, protests, or requests to intervene must be submitted on or before July 20, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On June 4, 2009, DOE received an application from HEPM for authority to transmit electric energy from the United States to Mexico as a power marketer. HEMP proposes to deliver electric power to Mexico over any international transmission facility authorized by Presidential permit that is appropriate for open access transmission by third parties. The electric energy which HEPM proposes to export to Mexico would be surplus to the needs of the selling entities. HEPM has requested an electricity export authorization with a 5-year term.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the HEPM application to export electric energy to Mexico should be clearly marked with Docket No. EA-357. Additional copies are to be filed directly with Maria Coello, Hunt Electric Power Marketing, L.L.C., 1900 North Akard Street, Dallas, TX 75201 and James M. Bushee, Sutherland Asbill & Brennan LLP, Austin Centre, 701 Brazos Street, Suite 970, Austin, TX 78701-3232. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on June 16, 2009.
Anthony J. Como,
Director, Permitting and Siting, Office of Electricity Delivery and Energy Reliability.

[FR Doc. E9-14446 Filed 6-18-09; 8:45 am]

BILLING CODE 6450-01-P